DEPARTMENT OF THE INTERIOR

National Park Service

[NPS-WASO-NAGPRA-NPS0035777; PPWOCRADN0-PCU00RP14.R50000]

Notice of Inventory Completion: U.S. Army Corps of Engineers, Mobile District, Mobile, AL

AGENCY: National Park Service, Interior.

ACTION: Notice.

SUMMARY: In accordance with the Native American Graves Protection and Repatriation Act (NAGPRA), the U.S. Army Corps of Engineers, Mobile District, has completed an inventory of human remains and associated funerary objects and has determined that there is a cultural affiliation between the human remains and associated funerary objects and Indian Tribes or Native Hawaiian organizations in this notice. The human remains and associated funerary objects were removed from Lowndes and Monroe Counties, MS.

DATES: Repatriation of the human remains and associated funerary objects in this notice may occur on or after June 5, 2023.

ADDRESSES: Ms. Alexandria Smith, U.S. Army Corps of Engineers, Mobile District, 109 St. Joseph Street, P.O. Box 2288, Mobile, AL 36628-0001, telephone (251) 690-2728, email Alexandria.N.Smith@usace.army.mil.

SUPPLEMENTARY INFORMATION: This notice is published as part of the National Park Service's administrative responsibilities under NAGPRA. The determinations in this notice are the sole responsibility of the U.S. Army Corps of Engineers, Mobile District. The National Park Service is not responsible for the determinations in this notice. Additional information on the determinations in this notice, including the results of consultation, can be found in the inventory or related records held by the U.S. Army Corps of Engineers, Mobile District.

Description

Human remains representing, at minimum, one individual were removed from Lowndes County, MS. One of several sites identified during early mitigation measures for the prospective Tennessee Tombigbee Waterway, site 22LO553 (unnamed) was excavated between December 1978 and May 1979 under the direction of Judith A. Bense. No further work was ever conducted. The age and sex of the individual are undetermined. No known individual was identified. The 10 associated funerary objects are one lot consisting of lithics, six lots consisting of ceramics, two lots consisting of unmodified stones, and one lot consisting of shells.

Human remains representing, at minimum, two individuals were removed from Lowndes County, MS. The Barnes Mound (22LO564) likely was a seasonal occupation site from the Early or Middle Archaic to the Middle and Late Woodland periods. It was excavated by the Mississippi State University Department of Anthropology under principal investigator James R. Atkinson and field director G. Gerald Berry during July 6-24, 1974. The age and sex of the individuals are undetermined. No known individuals were identified. The four associated funerary objects are two lots consisting of soil samples, one lot consisting of lithics, and one lot consisting of ceramics.

Human remains representing, at minimum, 21 individuals were removed from Lowndes County, MS. The Cofferdam site (22LO599) is an Early-Late Woodland occupation featuring some Miller II components. Cofferdam was identified by Army Corps of Engineers personnel during the excavation of the cofferdam for the Columbus Lock and Dam of the Tennessee-Tombigbee Waterway, and it was excavated by the Mississippi State University Department of Anthropology under the direction of James R. Atkinson and field crew chief G. Gerald Berry during August-October of 1975. The age and sex of the individuals are undetermined. No known individuals were identified. The 221 associated funerary objects are one lot consisting of mixed soil and fill, seven lots consisting of unmodified rocks, 37 lots consisting of lithics, 15 lots consisting of pebbles, seven lots consisting of groundstone fragments, 36 lots consisting of ceramics, 24 lots consisting of shells, 33 lots consisting of faunal remains, two lots consisting of clay balls, 12 lots consisting of flotation samples, eight lots consisting of projectile points, two lots consisting of charcoal, one lot consisting of stone cores, one lot consisting of fragmented turtle shell rattles, one lot consisting of pebbles, seven lots consisting of sandstone, three lots consisting of burned wood, two lots consisting of matrix with unidentified fill, six lots consisting of clay, four lots consisting of daub, four lots consisting of unscreened mixed materials, one lot consisting of grog tempered pipe bowls, two lots consisting of firecracked rock, two lots consisting of gravel/concretion, one lot consisting of petrified wood, one lot consisting of nutshells, and one lot consisting of shell gorgets.

Human remains representing, at minimum, four individuals were removed from Lowndes County, MS. The River Cut site (22LO860) is a small village containing Woodland and Mississippian components as well as Miller III, with some signs of possible Miller II habitation. The site was reported to the USACE, Mobile District, in 1983. Following salvage of a burial from an eroding bank in 1984, the site was excavated by the Cobb Institute of Archaeology, Mississippi State University, under principal investigator Janet Rafferty, with Mary Evelyn Starr, during December 29-30, 1985 and July 23-September 29, 1986. The age and sex of the individuals are undetermined. No known individuals were identified. The 14 associated funerary objects are four lots consisting of ceramics, five lots consisting of lithics, four lots consisting of projectile point fragments, and one lot consisting of sandstone.

Human remains representing, at minimum, one individual were removed from Monroe County, MS. One of several sites identified during early mitigation measures for the prospective Tennessee Tombigbee Waterway, the New Hamilton site (22MO548) was excavated between December of 1978 and May of 1979 under the direction of Judith A. Bense. No further work was ever conducted. The age and sex of the individual are undetermined. No known individual was identified. The 41 associated funerary objects are eight lots consisting of shells, six lots consisting of ceramics, one lot consisting of cobbles, one lot consisting of botanical remains, eight lots consisting of lithics, five lots consisting of faunal remains, six lots consisting of soil samples, one lot consisting of sandstone, one lot consisting of rock fill, one lot consisting of modified bones, one lot consisting of pebbles, one lot consisting of conch shell dippers, and one lot consisting of copper flakes.

Human remains representing, at minimum, two individuals were removed from Monroe County, MS. One of several sites identified during early mitigation measures for the prospective Tennessee Tombigbee Waterway, the SW Amory site (22MO710) was excavated between December of 1978 and May of 1979 under the direction of Judith A. Bense. No further work was ever conducted. The age and sex of the individuals are undetermined. No known individuals were identified. The 58 associated funerary objects are 13 lots consisting of lithics, nine lots consisting of ceramics, four lots consisting of faunal remains, five lots consisting of soil samples, one lot consisting of glass, eight lots consisting of clay, four lots consisting of unmodified stones, three lots consisting of mixed samples, two lots consisting of ferrous sandstone, two lots consisting of firecracked rocks, one lot consisting of projectile points, three lots consisting of sandstone, one lot consisting of groundstone, one lot consisting of shark tooth fragments, and one lot consisting of plant materials.

Human remains representing, at minimum, one individual were removed from Monroe County, MS. The East Aberdeen site (22MO819), located during the 1976 survey, was a prehistoric midden with some historical, nineteenth and twentieth century components. The site was excavated from June 1 to September 29, 1978, by co-principal investigators Janet E. Rafferty and B. Lea Baker. The age and sex of the individual are undetermined. No known individual was identified. The 13 associated funerary objects are two lots consisting of lithics, two lots consisting of faunal remains, two lots consisting of charcoal, two lots consisting of clay, two lots consisting of gravel, one lot consisting of botanical materials, one float sample, and one lot consisting of sandstone.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archeological, geographical, historical, other relevant information, and expert opinion.

Determinations

Pursuant to NAGPRA and its implementing regulations, and after consultation with the appropriate Indian Tribes and Native Hawaiian organizations, the U.S. Army Corps of Engineers, Mobile District has determined that:

• The human remains described in this notice represent the physical remains of 32 individuals of Native American ancestry.

• The 361 objects described in this notice are reasonably believed to have been placed with or near individual human remains at the time of death or later as part of the death rite or ceremony.

• There is a relationship of shared group identity that can be reasonably traced between the human remains and associated funerary objects described in this notice and The Chickasaw Nation.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after June 5, 2023. If competing requests for repatriation are received, the U.S. Army Corps of Engineers, Mobile District, must determine the most appropriate requestor prior to repatriation. Requests for joint repatriation of the human remains and associated funerary objects are considered a single request and not competing requests. The U.S. Army Corps of Engineers, Mobile District, is responsible for sending a copy of this notice to the Indian Tribe identified in this notice.

Authority: Native American Graves Protection and Repatriation Act, 25 U.S.C. 3003, and the implementing regulations, 43 CFR 10.9, 10.10, and 10.14.

Dated: April 25, 2023.
Melanie O'Brien,
Manager, National NAGPRA Program.

[FR Doc. 2023-09581 Filed 5-4-23; 8:45 am]

BILLING CODE 4312-52-P